NUCLEAR REGULATORY COMMISSION

[NUREG/CR-6850]

EPRI/NRC-RES Fire PRA Methodology for Nuclear Power Facilities, Draft for Comment

AGENCY: Nuclear Regulatory Commission (NRC).

ACTION: Notice of availability of “EPRI/NRC-RES Fire PRA Methodology for Nuclear Power Facilities, Draft Report for Comment,” and request for public comment.

SUMMARY: The Nuclear Regulatory Commission (NRC) is announcing the availability of NUREG/CR-6850, “EPRI/NRC-RES Fire PRA Methodology for Nuclear Power Facilities Volume 1 and 2, Draft for Public Comment.”

DATES: Comments on this document should be submitted by December 17, 2004. Comments received after that date will be considered to the extent practicable. To ensure efficient and complete comment resolution, comments should include references to the section, page, and line numbers of the document to which the comment applies, if possible.

ADDRESSES: Members of the public are invited and encouraged to submit written comments to Michael Lesar, Chief, Rules and Directives Branch, Office of Administration, Mail Stop T6-D59, U.S. Nuclear Regulatory Commission, Washington, DC 20555-0001. Hand-deliver comments attention to Michael Lesar, 11545 Rockville Pike, Rockville, MD, between 7:30 a.m. and 4:15 p.m. on Federal workdays. Comments may also be sent electronically to NRCREP@nrc.gov.

This document is available at the Agencywide Documents Access and Management System (ADAMS) Public Electronic Reading Room on the Internet at the NRC Web site at http://www.nrc.gov/reading-rm/adams.html under Accession No. ML042800183 and ML042800196; on the NRC Web site at http://www.nrc.gov/reading-rm/doc-collections/nuregs/ docs4comment.html; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION, CONTACT: J.S. Hyslop, Probability Risk Assessment Branch, Office of Nuclear Regulatory Research, telephone (301) 415-6354, e-mail jsh2@nrc.gov, or Mark H. Salley, Probability Risk Assessment Branch, Office of Nuclear Regulatory Research, telephone (301) 415-2840, e-mail mxs3@nrc.gov.

SUPPLEMENTARY INFORMATION:

Draft NUREG/CR-6850, “EPRI/NRC-RES Fire PRA Methodology for Nuclear Power Facilities”

The purpose of EPRI/NRC-RES Fire PRA Methodology for Nuclear Power Facilities Draft Report for Comment (NUREG/CR-6850) is to provide state-of-the-art methods, tools, and data for the conduct of fire Probabilistic Risk Assessment (PRA). This methodology was developed under the program, the Fire Risk Requantification Study, which was conducted as a joint activity between EPRI and RES under the terms of an EPRI/RES Memorandum of Understanding on Cooperative Nuclear Safety Research and accompanying Fire Risk Addendum. Licensee applications and U.S. NRC review guidance with respect to many regulatory activities such as the risk-informed, performance-based fire protection rule (endorsing NFPA 805) will benefit for more robust methods. This research addresses the full breadth of FRA technical issues for power operations, and includes consideration of large early release frequency. The current scope excludes low power/shutdown operations, spent fuel pool accidents, sabotage, and PRA level 3 estimates of consequence. While the primary objective of the project was to consolidate existing research from EPRI and NRC in state-of-the-art methods, the newly documented methods represent a significant advancement in many areas over previously documented methods.

The NRC is seeking public comment in order to receive feedback from the widest range of interested parties and to ensure that all information relevant to developing this document is available to the NRC staff. This document is issued for comment only and is not intended for interim use. The NRC will review public comments received on the document, incorporate suggested changes as necessary, and issue the final NUREG/CR-6850 for use.

Dated at Rockville, MD, this 8th day of October 2004.
For the Nuclear Regulatory Commission.
Mark A. Cunningham,
Acting Deputy Director, Division of Risk Analysis and Applications, Office of Nuclear Regulatory Research.

[FR Doc. 04-23240 Filed 10-15-04; 8:45 am]

BILLING CODE 7590-01-P